DEPARTMENT OF EDUCATION

Notice of Proposed Information Collection Requests

AGENCY: Department of Education.

ACTION: Correction notice.

SUMMARY: On June 30, 2004, the Department of Education published a 30-day notice in the Federal Register (Page 39442-39443) for the information collection, “Early Reading First National Evaluation.” Under Responses and Reporting and Recordkeeping Hour Burden, the responses are corrected to 9,752 and the Burden Hours are hereby corrected to 2,702. The Leader Regulatory Information Management Group, Office of the Chief Information Officer, hereby issues a correction notice as required by the Paperwork Reduction Act of 1995.

Dated: July 1, 2004.
Angela C. Arrington,
Regulatory Information Management Group, Office of the Chief Information Officer.

[FR Doc. 04-15406 Filed 7-6-04; 8:45 am]

BILLING CODE 4001-01-U